COMMISSION ON OCEAN POLICY

Public Meeting

AGENCY: Commission on Ocean Policy.

ACTION: Notice of public meeting.

SUMMARY: The Commission on Ocean Policy is an independent Federal commission appointed by the President and authorized by the Oceans Act of 2000 (Public Law 106-256).

The Commission on Ocean Policy is hereby announcing the Commission's second public meeting to be held on Tuesday and Wednesday, November 13 and 14, 2001. The meeting will begin at 9 a.m. on November 13, and conclude at 5 p.m. The Commission will reconvene at 9 a.m. on November 14 and meet until 5 p.m. The meeting will be held in the Naval Memorial and Heritage Center auditorium, 701 Pennsylvania Avenue NW, Suite 123, Washington, DC.

The Commission on Ocean Policy is holding this second public meeting pursuant to requirements under the Oceans Act of 2000 (Public Law 106-256, Section 3(e)(1)(E)). The agenda will include welcoming remarks, presentations by invited guests representing Congress, various Federal agencies and national non-governmental organizations, opportunity for comment from the public and any required administrative discussions and executive sessions. Further information, including a draft agenda, will be available at the Commission's Web site, http://oceancommission.gov.

FOR FURTHER INFORMATION CONTACT: Terry Schaff, Commission on Ocean Policy, 2300 Clarendon Boulevard, Suite 1350, Arlington, Virginia, 22201, 703-588-0851; TSchaff@nsf.gov.

Dated: October 16, 2001.
James D. Watkins,
Chairman, Commission on Ocean Policy.

[FR Doc. 01-26734 Filed 10-23-01; 8:45 am]

BILLING CODE 6820-WM-P